DEPARTMENT OF THE TREASURY

Community Development Financial Institutions Fund

Proposed Collection; Comment Request

ACTION: Notice and request for comments.

SUMMARY: The U.S. Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “Fund”), an office within the Department of the Treasury, is soliciting comments concerning the CDFI Program Application.

DATES: Written comments should be received on or before May 4, 2009 to be assured of consideration.

ADDRESSES: Direct all comments to Ruth Jaure, CDFI Program Manager, at the Community Development Financial Institutions Fund, U.S. Department of the Treasury, 601 13th Street, NW., Suite 200 South, Washington, DC 20005, by e-mail to cdfihelp@cdfi.treas.gov or by facsimile to (202) 622-7754. Please note this is not a toll free number.

FOR FURTHER INFORMATION CONTACT: The CDFI Program Application may be obtained from the CDFI Program page of the Fund's Web site at http://www.cdfifund.gov. Requests for additional information should be directed to Ruth Jaure, CDFI Program Manager, Community Development Financial Institutions Fund, U.S. Department of the Treasury, 601 13th Street, NW., Suite 200 South, Washington, DC 20005, or call (202) 622-9156. Please note this is not a toll free number.

SUPPLEMENTARY INFORMATION: Title: CDFI Program Application.

OMB Number: 1559-0021.

Abstract: The Community Development Financial Institutions (CDFI) Program was established by the Riegle Community Development and Regulatory Improvement Act of 1994 to use Federal resources to invest in and build the capacity of CDFIs to serve low-income people and communities lacking adequate access to affordable financial products and services. Through the CDFI Program, the CDFI Fund provides: (1) Financial Assistance (FA) awards to CDFIs that have Comprehensive Business Plans for creating demonstrable community development impact through the deployment of credit, capital, and financial services within their respective Target Markets or the expansion into new Investment Areas, Low-Income Targeted Populations, or Other Targeted Populations, and (ii) Technical Assistance (TA) grants to CDFIs and entities proposing to become CDFIs in order to build their capacity to better address the community development and capital access needs of their existing or proposed Target Markets and/or to become certified CDFIs. The regulations governing the CDFI Program are found at 12 CFR part 1805 and provide guidance on evaluation criteria and other requirements of the CDFI Program. The questions that the application contains, and the information generated thereby, will enable the Fund to evaluate applicants' activities and determine the extent of applicants' eligibility for a CDFI Program award. Failure to collect this information could result in improper uses of Federal funds.

Current Actions: Extension of a currently approved collection.

Type of Review: Regular review.

Affected Public: Certified CDFIs and entities seeking CDFI Certification.

Estimated Number of Respondents: 200.

Estimated Annual Time per Respondent: 100 hours.

Estimated Total Annual Burden Hours: 20,000 hours.

Requests for Comments: Comments submitted in response to this notice will be summarized and/or included in the request for Office of Management and Budget approval. All comments will become a matter of public record and may be published on the Fund Web site at http://www.cdfifund.gov. Comments are invited on: (a) Whether the collection of information is necessary for the proper performance of the functions of the Fund, including whether the information shall have practical utility; (b) the accuracy of the Fund's estimate of the burden of the collection of information; (c) ways to enhance the quality, utility, and clarity of the information to be collected; (d) ways to minimize the burden of the collection of information on respondents, including through the use of technology; and (e) estimates of capital or start-up costs and costs of operation, maintenance, and purchase of services to provide information.

The Fund specifically requests comments concerning the following: (1) Whether offering separate applications for the FA and TA components would reduce the burden on applicants; (2) whether the distinct business models followed by different types of CDFIs (such as banks, credit unions, and venture capital funds) merit individualized applications; (3) if an applicant eligibility screen should be applied before the application deadline, allowing applicants to determine beforehand if they would be qualified to receive an award; (4) if detailed Matching Funds documentation should be collected later in the application review process, and a reasonable amount of time to expect an applicant to provide this data; (5) the merit of further reducing the narrative page limits in the application; (6) the potential burden of requiring specific documents to support proposed uses of TA funds, namely Statements of Work for professional services, and résumés and/or position descriptions for personnel; and (7) the potential burden of requiring additional documentation to support the application, namely tax returns (Form 990), Certificates of Good Standing, operating budgets, lists of sources of capital, rate sheets for products and services, and borrower characteristic profiles.

Authority: 12 U.S.C. 1834a, 4703, 4703 note, 4713, 4717; 31 U.S.C 321; 12 CFR part 1806.

Dated: February 25, 2009.
Donna J. Gambrell,
Director, Community Development Financial Institutions Fund.

[FR Doc. E9-4520 Filed 3-2-09; 8:45 am]

BILLING CODE 4810-70-P